DEPARTMENT OF ENERGY

Western Area Power Administration

Post-2009 Resource Pool—Loveland Area Projects—Allocation Procedures and Call for Applications

AGENCY: Western Area Power Administration, DOE.

ACTION: Notice of allocation procedures and call for applications.

SUMMARY: Western Area Power Administration (Western), a Federal power marketing agency of the Department of Energy (DOE), is publishing this notice of allocation procedures and call for applications from preference entities interested in an allocation of Federal electric power. Subpart C of the Energy Planning and Management Program (Program), which was developed in part to implement section 114 of the Energy Policy Act of 1992, provides for establishing project-specific resource pools and allocating power from these pools to new preference customers and for other appropriate purposes as determined by Western. These allocation procedures and call for applications, in conjunction with the Loveland Area Projects (LAP) Final Post-1989 Marketing Plan (Post-1989 Marketing Plan), establish the framework for allocating power from the LAP resource pool.

DATES: An entity interested in applying for an allocation of electric power from Western must submit a written application (see Applicant Profile Data (APD) in Section V. A.) to Western's Rocky Mountain Customer Service Region at the address below. Western must receive the application by 4 p.m., MST, on Friday, December 19, 2008. Western reserves the right to not consider an application that is received after the prescribed date and time.

A single public information forum on the procedures and call for applications will be held on Thursday, November 13, 2008 MST; see address below.

ADDRESSES: Submit applications for an allocation of electric power from Western to James D. Keselburg, Regional Manager, Rocky Mountain Customer Service Region, Western Area Power Administration, 5555 East Crossroads Boulevard, Loveland, CO 80538-8986. Applications may be delivered by certified mail, commercial mail, e-mail, or fax 970-461-7204. If submitting the application by e-mail, send it to POST2009LAP@wapa.gov with an electronic signature. If an electronic signature is not available, fax the signature page to 970-461-7204, or mail it to the address above.

Information about the Post-2009 Resource Pool Allocation Procedures, including comments, letters, and other supporting documents made or kept by Western pertaining to these allocation procedures and call for applications, is available for public inspection and copying at the Rocky Mountain Customer Service Region office, Western Area Power Administration, 5555 East Crossroads Boulevard, Loveland, CO 80538-8986.

A single public information forum (not to exceed 3 hours) on the allocation procedures and APD will be held on Thursday, November 13, 2008, at 9 a.m., MST, at the Ramada Plaza and Conference Center, 10 East 120th Avenue, Northglenn, CO 80233; telephone number 303-452-4100.

FOR FURTHER INFORMATION CONTACT: Susan Steshyn, Public Utilities Specialist, 970-461-7237, or Melanie Reed, Contracts and Energy Services Manager, 970-461-7229. Written requests for information should be sent to Rocky Mountain Customer Service Region, Western Area Power Administration, Attn: J6200, P.O. Box 3700, Loveland, CO 80539-3003.

SUPPLEMENTARY INFORMATION: Western published the Final Rule for the Program, 60 FR 54151, on October 20, 1995. The rule became effective on November 20, 1995. Subpart C-Power Marketing Initiative of the Program, Final Rule, 10 CFR part 905, provides for project-specific power resource pools and power allocations from these pools to eligible new preference customers and/or for other appropriate purposes as determined by Western. On June 25, 2007, Western published a Notice of Request for Letters of Interest in the Federal Register (72 FR 34679) regarding the resource pool. The comments, Western's responses, and the decision to allocate the Post-2009 resource pool to new preference customers, were published in the Federal Register (73 FR 38447) on July 7, 2008. Up to 1 percent of existing customers' allocations will be placed in a resource pool from which power allocations to new customers will be made. The Post-2009 Resource Pool Allocation Procedures for making these allocations address: (1) Amount of pool resources; (2) general eligibility criteria; (3) general allocation criteria, i.e., how Western plans to allocate pool resources to new customers as provided for in the Program; (4) general contract principles under which Western will sell the allocated power, and; (5) Applicant Profile Data, i.e., application information required from each applicant.

I. Amount of Pool Resources

Western will allocate up to 1 percent of the LAP long-term firm hydroelectric resource available as of October 1, 2009, as firm power. “Firm power” means firm capacity and associated energy allocated by Western that is subject to the terms and conditions specified in Western's long-term firm power electric service contract. The amount of resource that will become available October 1, 2009, is approximately 6.9 MW for the summer season and 6.1 MW for the winter season.

II. General Eligibility Criteria

Western will apply the following general eligibility criteria to applicants seeking an allocation of firm power under the Post-2009 Resource Pool Allocation Procedures:

A. Qualified applicants must be preference entities as defined by section 9c of the Reclamation Project Act of 1939, 43 U.S.C. 485h(c), as amended and supplemented.

B. Qualified applicants must be located within the currently established LAP marketing area. (See Section III.C. below for a description of the LAP marketing area.)

C. Qualified applicants must not have a current firm electric service contract nor be a member of a parent entity that has a firm electric service contract with Western.

D. Qualified utility and nonutility applicants must be able to use the firm power directly or be able to sell it directly to retail customers.

E. Qualified utility applicants that are municipalities, cooperatives, public utility districts, or public power districts must have attained utility status by October 1, 2006. “Utility status” means that the entity has responsibility to meet load growth, has a distribution system, and is ready, willing, and able to purchase Federal power from Western on a wholesale basis.

F. A qualified Native American applicant must be an “Indian Tribe,” as defined in the Indian Self Determination Act of 1975, 25 U.S.C. 450b, as amended and supplemented.

III. General Allocation Criteria

Western will apply the following general allocation criteria to applicants seeking an allocation of firm power under the Post-2009 Resource Pool Allocation Procedures:

A. Allocations of firm power will be made in amounts as determined solely by Western in exercising its discretion under Reclamation Law.

B. An allottee will have the right to purchase firm power only after executing an electric service contract with Western, and satisfying all conditions for firm electric service delivery in the contract.

C. Firm power allocated under these procedures will be available only to new qualified applicants in LAP's existing marketing area. This marketing area includes parts of Colorado, Kansas, Nebraska, and Wyoming. LAP's marketing area is specifically defined as the portion of Colorado east of the Continental Divide, Mountain Parks Rural Electric Association's service territory in Colorado west of the Continental Divide, the portion of Kansas located in the Missouri River Basin, the portion of Kansas west of the eastern borders of the counties intersected by the 100th Meridian, the portion of Nebraska west of the 101st Meridian, and Wyoming east of the Continental Divide.

D. An allocation made to an Indian Tribe will be based on actual load, or estimated load as developed by the Tribe. Western will evaluate and may adjust inconsistent estimates during the allocation process. Western is willing to assist tribes in developing load estimating methods.

E. Allocations made to eligible utility and nonutility applicants will be based on 2007 summer season and 2007-2008 winter season loads. Western will apply the Post-1989 Marketing Plan, Program criteria, and the Post-2004 Resource Pool criteria to these loads, except as modified herein.

F. Firm capacity and energy will be based upon each applicant's seasonal system load factor.

G. Any long-term firm electric service contract offered by Western to an applicant shall be executed by the applicant no later than June 1, 2009, unless otherwise agreed to in writing by Western.

H. The resource pool will be dissolved subsequent to the closing date for executing firm power contracts. Firm power not under contract will be used as Western determines.

I. The minimum allocation shall be 100 kilowatts (kW).

J. The maximum allocation shall be 5,000 kW. Qualified Native American applicants are not subject to this limitation.

K. Contract rates of delivery shall be subject to adjustment in the future as provided for in the Program.

L. If Western encounters unanticipated obstacles to delivering firm electric service to an Indian Tribe, it retains the right to provide the economic benefit of the resource directly to the tribe.

IV. General Contract Principles

Western will apply the following general contract principles to all allottees receiving an allocation of firm power under the Post-2009 Resource Pool Allocation Procedures:

A. Western, at its discretion and sole determination, reserves the right to adjust the contract rate of delivery on 5 years' notice in response to changes in hydrology and river operations. Any such adjustments shall only take place after a public process.

B. Each allottee is ultimately responsible for making its own third-party delivery arrangements. Western may assist allottees in making third-party transmission arrangements for delivery of firm power.

C. Contracts entered into under the Post-2009 Resource Pool Allocation Procedures shall provide for Western to furnish firm electric service effective October 1, 2009, through September 30, 2024.

D. Contracts entered into as a result of these procedures shall incorporate Western's standard provisions for power sales contracts, to include integrated resource planning and general power contract provisions.

E. Contracts entered into will include provisions for a reduction of up to 1 percent of the current contracted rate of delivery effective October 1, 2014, in accordance with the Program.

V. Applications for Firm Power

This notice formally requests applications from qualified entities that desire to purchase firm power from the Rocky Mountain Customer Service Region. Applications for an allocation of firm power under these procedures must be submitted in writing to the Regional Manager, Rocky Mountain Customer Service Region. APD must be received at Western's Rocky Mountain Customer Service Region in accordance with the requirements listed herein. Western reserves the right to not consider applications submitted before publication of this notice or after the deadlines specified in the Dates section above. Applications are available upon request or may be accessed at http://www.wapa.gov/rm/PMcontractRM/Post2009.html.

A. Applicant Profile Data (APD)

APD content and format are outlined below. To be considered, each applicant must submit its APD to Western's Rocky Mountain Customer Service Region no later than 4 p.m., MST, on Friday, December 19, 2008. See the Dates and Addresses sections above for specific information on submission and deadline requirements. Applicants are encouraged to use the application form provided at the above referenced Web site, or the requested information should be submitted in the sequence listed. The applicant must provide all requested information or the most reasonable available estimate. The applicant should note any requested information that does not apply. Western is not responsible for errors in data, missing data, or missing pages. All APD should be answered as if prepared by the entity seeking an allocation of Federal power. The APD content and format follows:

BILLING CODE 6450-01-P

BILLING CODE 6450-01-C

Recordkeeping Requirements: If Western accepts an application and the applicant receives an allocation of Federal power, the applicant must keep all APD for a period of 3 years after signing a contract for Federal power. There is no record keeping requirement for unsuccessful applicants.

B. Western's Consideration of Applications

1. Upon receipt, Western will review APD and verify that each applicant meets the general eligibility criteria set forth in Section II.

a. Western will request, in writing, additional information from any applicant whose APD is deficient. The applicant shall have 15 calendar days from the date on Western's letter of request to provide, in writing, the needed information.

b. If Western determines that an applicant does not meet the general eligibility criteria, Western will send a letter explaining why the applicant did not qualify.

c. If an applicant meets the general eligibility criteria, Western will determine the amount of firm power to be allocated pursuant to the general allocation criteria set forth in Section III. Western will send a draft contract to an applicant for review, which identifies the terms and conditions of the offer and the amount of firm power allocated to the applicant.

2. Western reserves the right to determine the amount of firm power to allocate to an applicant, as justified by an applicant's APD.

VI. Review Under the Paperwork Reduction Act

In accordance with the Paperwork Reduction Act of 1995, 44 U.S.C. 3501-3520, Western has received approval from the Office of Management and Budget (OMB) to collect the APD under control number 1910-5136.

VII. Review Under the National Environmental Policy Act

Western completed an environmental impact statement on the Program, pursuant to the National Environmental Policy Act of 1969 (NEPA). The Record of Decision was published in the Federal Register, 60 FR 53181, October 12, 1995. Western will comply with any additional NEPA requirements for this resource pool.

Dated: October 15, 2008.
Timothy J. Meeks,
Administrator.

[FR Doc. E8-25155 Filed 10-21-08; 8:45 am]

BILLING CODE 6450-01-P